DEPARTMENT OF ENERGY

Federal Energy Regulatory Commission

[Docket No. ER01-1107-000]

American Transmission Company; Notice of Settlement Conference

October 5, 2001.

Take notice that an informal settlement conference will be convened in this proceeding commencing at 1:00 pm on Monday, October 15, 2001, at the offices of the Federal Energy Regulatory Commission, 888 First Street, NE., Washington, DC, 20426, for the purpose of discussing the possible settlement of the above-referenced dockets.

This proceeding involves the resolution of network facility credit issues regarding an unexecuted Network Integration Transmission Service Agreement (NITSA) between American Transmission Company LLC (ATCLLC) and Dairyland Power Cooperative (DPC). Resolution of the proceeding could result in the recalculation of load ratio shares in the WPL rate zone effective January 1, 2001. Resolution of the proceeding could also involve the payment of transmission facility credits to DPC, which would affect the WPL rate zone immediately and the other ATCLLC rate zones either immediately or after the conclusion of the rate phase-in. FERC Staff and ATCLLC invite interested customers to attend.

Any person wishing to become a party must move to intervene and receive intervenor status pursuant to the Commission's regulations (18 CFR 385.214).

For additional information, contact Joseph H. Long at (202) 208-2149.

Linwood A. Watson, Jr.,
Acting Secretary.

[FR Doc. 01-25628 Filed 10-11-01; 8:45 am]

BILLING CODE 6717-01-P